DEPARTMENT OF THE INTERIOR

National Park Service

[NPS-WASO-NAGPRA-NPS0038957; PPWOCRADN0-PCU00RP14.R50000]

Notice of Proposed Transfer or Reinterment: Wesleyan University, Archaeology & Anthropology Collections, Middletown, CT

AGENCY: National Park Service, Interior.

ACTION: Notice.

SUMMARY: In accordance with the Native American Graves Protection and Repatriation Act (NAGPRA), Wesleyan University proposes to transfer human remains listed in a notice of inventory completion published in the Federal Register on August 12, 2024.

DATES: Repatriation, transfer, or reinterment of the human remains in this notice may occur on or after November 29, 2024.

FOR FURTHER INFORMATION CONTACT: Wendi Field Murray, Wesleyan University (Archaeology & Anthropology Collections), Middletown, CT 06459, telephone (860) 685-2085, email wmurray01@wesleyan.edu. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of Wesleyan University and additional information on the determinations in this notice, including the results of consultation, can be found in its inventory or related records. The National Park Service is not responsible for the determinations in this notice.

Abstract of Information Available

This notice follows publication of a Notice of Inventory Completion in the Federal Register (89 FR 65657-65658, August 12, 2024). Human remains representing, at least, 16 individuals have been identified. No associated funerary objects are present. The remains of these 16 individuals were once part of an osteological teaching collection, which included skeletal elements that had been prepared and used for anatomical instruction sometime between the 19th and 20th centuries. In August 2013 any human remains in the osteological collection that showed evidence of having been disinterred (visible soil/staining, water damage, and weathering) rather than mechanically cleaned/prepared by a medical supply vendor or other entity were presumed to be Native American. Wesleyan has no records suggesting their geographic origin or acquisition history.

The presence of potentially hazardous substances (i.e., pesticide residues) on these remains in unknown. In 2021, Wesleyan University discovered the presence of pesticide residue (arsenic) on one organic object from Samoa that was transferred from the Smithsonian in the 19th century, as well as several taxidermy specimens. While pesticides were not typically applied to human skeletal remains, they were managed together with organic objects in a large ethnographic teaching collection, so cross-contamination is a possibility.

There is one documented instance of pest fumigation relating to the collections that dates to 1972-1973. This was to treat a silverfish infestation in underground storage rooms that held the museum's objects after it closed. The proposal was for the application of dichlorodiphenyltrichloroethane (DDT) to the floors, the placement of open containers or paradichlorobenzene (PDB) around the room, and the placement of a mildew-retarding insecticide inside the wraps of museum specimens. The specific contents of the room in which the chemicals were applied, and to what extent they were shielded from them, is unknown.

Consultation

Invitations to consult were sent to the Mashantucket Pequot Indian Tribe; Mohegan Tribe of Indians of Connecticut; and the Narragansett Indian Tribe. Invitations to consult were also sent to the following non-federally recognized Indian groups: Brothertown Indian Nation, Eastern Pequot Tribal Nation; Golden Hill Paugussett Indian Nation; and the Schagticoke Indian Nation. The Mashantucket Pequot Indian Tribe and the Mohegan Tribe of Indians of Connecticut responded to the invitation and participated in consultation. Other Indian Tribes and/or groups either chose to defer, participated in preliminary phone calls, or did not participate.

Cultural Affiliation

No information about the cultural affiliation of the human remains in this notice are available. The information, including the results of consultation, identified:

1. No earlier group connected to the human remains.

2. No Indian Tribe or Native Hawaiian organization connected to the human remains.

3. No relationship of shared group identity between the earlier group and the Indian Tribe or Native Hawaiian organization that can be reasonably traced through time.

Determinations

Wesleyan University has determined that:

• The human remains described in this notice represent the physical remains of 16 individuals of Native American ancestry.

• No known lineal descendant who can trace ancestry to the human remains in this notice has been identified.

• No Indian Tribe or Native Hawaiian organization with cultural affiliation to the human remains in this notice has been clearly or reasonably identified.

• The Mashantucket Pequot Indian Tribe and the Mohegan Tribe of Indians of Connecticut have requested transfer of the human remains described in this notice.

Requests for Repatriation

Written requests for repatriation of the human remains in this notice must be sent to the authorized representative identified in this notice under FOR FURTHER INFORMATION CONTACT. Requests for repatriation may be submitted by any lineal descendant, Indian Tribe, or Native Hawaiian organization who shows, by a preponderance of the evidence, that the requestor is a lineal descendant or an Indian Tribe or Native Hawaiian organization with cultural affiliation.

Repatriation, transfer, or reinterment of the human remains described in this notice may occur on or after November 29, 2024. If requests for repatriation are received, Wesleyan University must evaluate the requests and respond in writing to the requestors. Wesleyan University is responsible for sending a copy of this notice to any consulting lineal descendant, Indian Tribe, or Native Hawaiian organization.

Authority: Native American Graves Protection and Repatriation Act, 25 U.S.C. 3003, and the implementing regulations, 43 CFR 10.10.

Dated: October 25, 2024.
Melanie O'Brien,
Manager, National NAGPRA Program.

[FR Doc. 2024-25189 Filed 10-29-24; 8:45 am]

BILLING CODE 4312-52-P